INTERNATIONAL TRADE COMMISSION

[Investigation Nos. 701-TA-269 and 731-TA-311-314, 317, and 379 (Second Review)]

Brass Sheet and Strip from Brazil, Canada, France, Germany, Italy, and Japan

Determinations

On the basis of the record ¹ developed in the subject five-year reviews, the United States International Trade Commission (Commission) determines, pursuant to section 751(c) of the Tariff Act of 1930 (19 U.S.C. 1675(c)) (the Act), that revocation of the antidumping duty orders on brass sheet and strip from France, Germany, Italy, and Japan would be likely to lead to continuation or recurrence of material injury to an industry in the United States within a reasonably foreseeable time.² The Commission further determines that revocation of the countervailing duty order on brass sheet and strip from Brazil and the antidumping duty orders on brass sheet and strip from Brazil and Canada would not be likely to lead to continuation or recurrence of material injury to an industry in the United States within a reasonably foreseeable time.³

¹

The record is defined in sec. 207.2(f) of the Commission's Rules of Practice and Procedure (19 CFR 207.2(f)).

²

On March 2, 2006, the Commission terminated the five-year review of the countervailing duty order concerning brass sheet and strip from France (investigation No. 701-TA-270 (Second Review)).

³

Chairman Stephen Koplan and Commissioner Charlotte R. Lane dissenting with respect to Brazil.

Background

The Commission instituted these reviews on March 31, 2005 (70 FR 16519) and determined on July 5, 2005 that it would conduct full reviews (70 FR 41427, July 19, 2005). Notice of the scheduling of the Commission's reviews and of a public hearing to be held in connection therewith was given by posting copies of the notice in the Office of the Secretary, U.S. International Trade Commission, Washington, DC, and by publishing the notice in the Federal Register on September 9, 2005 (70 FR 53688). The hearing was held in Washington, DC, on January 24, 2006, and all persons who requested the opportunity were permitted to appear in person or by counsel.

The Commission transmitted its determinations in these reviews to the Secretary of Commerce on March 21, 2006. The views of the Commission are contained in USITC Publication 3842 (March 2006), entitled Brass Sheet and Strip From Brazil, Canada, France, Germany, Italy, and Japan: Investigation Nos. 701-TA-269 and 731-TA-311-314, 317, and 379 (Second Review).

By order of the Commission.
Issued: March 20, 2006.
Marilyn R. Abbott,
Secretary to the Commission.

[FR Doc. E6-4197 Filed 3-22-06; 8:45 am]

BILLING CODE 7020-02-P